DEPARTMENT OF ENERGY

Federal Energy Regulatory Commission

[Docket Nos. EL05-102-000, EL05-102-001, ER97-4166-018, ER97-4166-021, ER96-780-007, ER96-780-010, EL05-104-000, and EL05-104-001]

Southern Company Services, Inc., Southern Company Energy Marketing, L.P. and Southern Company Services, Inc.; Notice of Designation of Commission Staff as Non-Decisional

September 21, 2005.

Effective the date of issuance of this notice, Daniel Larcamp, of the Federal Energy Regulatory Commission (Commission), is designated as non-decisional staff in the above-captioned dockets. As non-decisional staff, Mr. Larcamp will not participate in an advisory capacity in deliberations on the issues pending therein. In addition, as non-decisional staff, Mr. Larcamp will also take no part in the Commission's review of any offer of settlement. Separated non-decisional and advisory staffs are prohibited from communicating with one another concerning the deliberations set forth above, including any pertinent settlement offer.

Magalie R. Salas,
Secretary.

[FR Doc. E5-5268 Filed 9-27-05; 8:45 am]

BILLING CODE 6717-01-P